DEPARTMENT OF AGRICULTURE

Food and Nutrition Service

7 CFR Part 271 and 273

RIN 0584-AE68

Employment and Training Opportunities in the Supplemental Nutrition Assistance Program; Extension of Comment Period

AGENCY: Food and Nutrition Service (FNS), USDA.

ACTION: Proposed rule; extension of comment period.

SUMMARY: The Department of Agriculture's Food and Nutrition Service (FNS) is extending the public comment period on the proposed rule titled, “Employment and Training Opportunities in the Supplemental Nutrition Assistance Program”, which was published in the Federal Register on March 17, 2020. This action extends the deadline for receipt of public comments to give the public additional time to review the proposed rule.

DATES: To be assured of consideration, comments on this proposed rule must be received by the Food and Nutrition Service on or before June 17, 2020.

ADDRESSES: The Food and Nutrition Service invites interested persons to submit comments on this proposed rule. Comments may be submitted by any of the following methods:

• Federal eRulemaking Portal: Go to http://www.regulations.gov. Follow the online instructions for submitting comments.

• Mail: Send comments to Moira Johnston, Food and Nutrition Service, Office of Employment and Training, 1320 Braddock Place, Alexandria, VA 22314.

• Email: Send comments to ETORule@usda.gov. Include Docket ID Number FNS-2019-0008, “Employment and Training Opportunities in the Supplemental Nutrition Assistance Program” in the subject line of the message.

• All comments submitted in response to this proposed rule will be included in the record and will be made available to the public. Please be advised that the substance of the comments and the identity of the individuals or entities submitting the comments will be subject to public disclosure. FNS will make the comments publicly available on the internet via http://www.regulations.gov.

FOR FURTHER INFORMATION CONTACT: Moira Johnston, Food and Nutrition Service, Office of Employment and Training, 1320 Braddock Place, Alexandria, VA 22314, and ETORule@usda.gov.

SUPPLEMENTARY INFORMATION: The Food and Nutrition Service is extending the public comment period for the proposed rule, “Employment and Training Opportunities in the Supplemental Nutrition Assistance Program”, which published March 17, 2020 at 85 FR 15304. The new comment period ends June 17, 2020. There are no other changes to this proposed rule.

Pamilyn Miller,
Administrator, Food and Nutrition Service.

[FR Doc. 2020-10536 Filed 5-15-20; 8:45 am]

BILLING CODE 3410-30-P